DEPARTMENT OF THE INTERIOR

National Park Service

[NPS-WASO-NAGPRA-NPS0033623; PPWOCRADN0-PCU00RP14.R50000]

Notice of Inventory Completion: Florence Indian Mound Museum, Florence, AL

AGENCY: National Park Service, Interior.

ACTION: Notice.

SUMMARY: The Florence Indian Mound Museum has completed an inventory of human remains in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Florence Indian Mound Museum. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Florence Indian Mound Museum at the address in this notice by April 22, 2022.

FOR FURTHER INFORMATION CONTACT: Brian Murphy, Florence Arts and Museums, 217 E Tuscaloosa Street, Florence, AL 35630, telephone (716) 570-5613, email bmurphy@florenceal.org.

SUPPLEMENTARY INFORMATION: Notice is here given in accordance with the Native American Graves Protection and Repatriation Act (NAGPRA), 25 U.S.C. 3003, of the completion of an inventory of human remains under the control of the Florence Indian Mound Museum, Florence, AL. The human remains were removed from Lauderdale County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Florence Indian Mound Museum professional staff in consultation with representatives of the Alabama-Coushatta Tribe of Texas [previously listed as Alabama-Coushatta Tribes of Texas] and The Chickasaw Nation (hereafter referred to as “The Consulted Tribes”).

History and Description of the Remains

Sometime in the 1970s, human remains representing, at minimum, one individual were removed from Lauderdale County, AL. In December of 2019, the human remains were brought to the Kennedy-Douglass Center for the Arts by a man who claimed that his friend had removed the human remains from an unidentified site in Lauderdale County in the 1970s. The human remains—two tibia, one mandible, two parietal bones, one scapula, one radius, one ulna, one humerus, one thoracic bone, one rib, and one occipital bone—belong to an individual of unknown age and sex. No known individual was identified. No associated funerary objects are present.

Determinations Made by the Florence Indian Mound Museum

Officials of the Florence Indian Mound Museum have determined that:

• Pursuant to 25 U.S.C. 3001(9), the human remains described in this notice are Native American based on consultation with Katie Fillers, Tennessee Valley Authority archeological contractor.

• Pursuant to 25 U.S.C. 3001(9), the human remains described in this notice represent the physical remains of, at minimum, one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of Absentee-Shawnee Tribe of Indians of Oklahoma; Alabama-Coushatta Tribe of Texas [previously listed as Alabama-Coushatta Tribes of Texas]; Alabama-Quassarte Tribal Town; Cherokee Nation; Coushatta Tribe of Louisiana; Eastern Band of Cherokee Indians; Eastern Shawnee Tribe of Oklahoma; Jena Band of Choctaw Indians; Kialegee Tribal Town; Poarch Band of Creek Indians [previously listed as Poarch Band of Creeks]; Shawnee Tribe; The Muscogee (Creek) Nation; The Seminole Nation of Oklahoma; Thlopthlocco Tribal Town; and the United Keetoowah Band of Cherokee Indians in Oklahoma (hereafter referred to as “The Tribes”).

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Brian Murphy, Florence Arts and Museums, 217 E. Tuscaloosa Street, Florence, AL 35630, telephone (716) 570-5613, email bmurphy@florenceal.org, by April 22, 2022. After that date, if no additional requestors have come forward, transfer of control of the human remains to The Tribes may proceed.

The Florence Indian Mound Museum is responsible for notifying The Consulted Tribes and The Tribes that this notice has been published.

Dated: March 17, 2022.
Melanie O'Brien,
Manager, National NAGPRA Program.

[FR Doc. 2022-06128 Filed 3-22-22; 8:45 am]

BILLING CODE 4312-52-P